POSTAL SERVICE

39 CFR PART 111

Price of Semipostal Stamp

AGENCY: Postal Service.

ACTION: Final rule.

SUMMARY: This rule amends the Domestic Mail Manual (DMM) to reflect the introduction of the Stop Family Violence semipostal stamp.

DATES: This rule is effective on October 11, 2003.

ADDRESSES: Questions about this rule may be addressed to the Manager, Stamp Services, ATTN: Stop Family Violence Semipostal Stamp DMM Rules, 475 L'Enfant Plaza SW., Room 5670, Washington, DC 20260-2435.

FOR FURTHER INFORMATION CONTACT: Cindy Tackett at (202) 268-6555.

SUPPLEMENTARY INFORMATION: The Postal Service is amending Sections P022 and R000 of the DMM to reflect the enactment of the Stamp Out Domestic Violence Act of 2001, Public Law No. 107-67, § 653, 115 Stat. 558 (2001). This notice also adopts DMM standards implementing the decision of the Governors of the United States Postal Service on the price of the Stop Family Violence semipostal stamp.

Public Law No. 107-67 directs the Postal Service to issue a semipostal stamp in order to give the public the opportunity to contribute to domestic violence programs. The Stop Family Violence semipostal stamp is to be issued on October 11, 2003, and may remain on sale through December 31, 2006. Funds raised in connection with this semipostal stamp are to be transferred to the Department of Health and Human Services.

Under 39 U.S.C. 416, the Governors are authorized to determine the price of semipostal stamps. On March 4, 2003, the Governors voted to set the price of the Stop Family Violence semipostal stamp at 45 cents. The price of the Stop Family Violence semipostal stamp is effective on October 11, 2003, the date of the stamp's issuance.

Section P022 of the DMM is amended to reflect the introduction of the Stop Family Violence semipostal stamp. Section R000 of the DMM is amended to reflect the price and postage value of the Stop Family Violence semipostal stamp.

Although exempt from the notice and comment requirements of the Administrative Procedure Act (5 U.S.C. 553(b), (c)) regarding rulemaking by 39 U.S.C. 410(a), the Postal Service hereby amends the following standards of the DMM, incorporated by reference into the Code of Federal Regulations. See 39 CFR part 111.

List of Subjects in 39 CFR Part 111

Administrative practice and procedure, Postal Service.

For the reasons set out in the preamble, 39 CFR part 111 is amended as follows:

PART 111—[AMENDED]

1. The authority citation for 39 CFR part 111 is revised to read as follows:

Authority: 5 U.S.C. 552(a); 39 U.S.C. 101, 401, 403, 414, 416, 3001-3011, 3201-3219, 3403-3406, 3621, 3626, 5001.

2. Revise the following sections of the DMM as set forth below:

Domestic Mail Manual (DMM)

* * * * *

P Postage and Payment Methods

* * * * *

P000 Basic Information

* * * * *

P020 Postage Stamps and Stationery

* * * * *

P022 Postage Stamps

1.0 PURCHASE AND USE

* * * * *

1.6 Semipostal Stamps

* * * * *

b. The following semipostal stamps are available:

* * * * *

[Revise the text of 1.6b to add subsection (3) to read as follows:]

(3) The Stop Family Violence semipostal stamp. The difference between the purchase price and the First-Class Mail nonautomation single-piece first-ounce letter rate in effect at the time of purchase constitutes a contribution to domestic violence programs and cannot be used to pay postage. Funds (net of the Postal Service's reasonable costs) raised in connection with the Stop Family Violence semipostal stamp are transferred to the Department of Health and Human Services.

* * * * *

[Revise the text of 1.6c to read as follows:]

c. The postage value of each semipostal stamp is the First-Class Mail nonautomation single-piece first-ounce letter rate in R100.1.2 that is in effect at the time of purchase. Additional postage must be affixed to pieces weighing in excess of 1 ounce, pieces subject to the nonstandard surcharge, or pieces for which special services have been elected. The postage value of semipostal stamps purchased before any subsequent change in the First-Class Mail nonautomation single-piece first-ounce letter rate is unaffected by any subsequent change in that rate. The purchase price of each semipostal stamp is listed in R000.4.0.

* * * * *

R Rates and Fees

R000 Stamps and Stationery

* * * * *

4.0 POSTAGE STAMPS

[Revise the table in 4.0 to add the following at the end of the table:]

Form per purpose | Denomination
* * * * * * *
Stop Family Violence Panes of up to 20 | Purchase price of $0.45; postage value equivalent to First-Class Mail nonautomation single-piece rate ($0.37); remainder is contribution to fund domestic violence programs.

* * * * *

We will publish an appropriate amendment to 39 CFR 111.3 to reflect these changes.

Stanley F. Mires,
Chief Counsel, Legislative.

[FR Doc. 03-19936 Filed 8-15-03; 8:45 am]

BILLING CODE 7710-12-P